DEPARTMENT OF DEFENSE

Department of the Army

Programmatic Environmental Assessment for the Fielding of the Maneuver—Short Range Air Defense Capability

AGENCY: Department of the Army, DoD.

ACTION: Notice of availability.

SUMMARY: The Department of the Army (Army) announces the availability of the Programmatic Environmental Assessment (PEA), the Draft Finding of No Significant Impact (FONSI), and the Draft Finding of No Practicable Alternative (FONPA) for the proposed fielding of the Maneuver—Short Range Air Defense (M-SHORAD) battalion. In accordance with the National Environmental Policy Act (NEPA), the PEA analyzes the potential environmental and socioeconomic impacts, associated with construction, live-fire and maneuver training, and increased number of soldiers required to field the M-SHORAD battalion. The Proposed Action would address efforts to improve the protection of tactical maneuver forces from current and future aerial threats.

DATES: Comments must be received by June 18, 2021 to be considered in the preparation of the PEA.

ADDRESSES: Please send written comments to U.S. Army Environmental Command, ATTN: IM-SHORAD Public Comments, 2455 Reynolds Rd., Mail Stop 112, JBSA-Fort Sam Houston, Texas 78234-7588 or email comments to usarmy.jbsa.aec.nepa@mail.mil with M-SHORAD Public Comments as the subject line.

FOR FURTHER INFORMATION CONTACT: Ms. Cathryn Kropp, U.S. Army Environmental Command, Public Affairs Office at usarmy.jbsa.aec.mbx@mail.mil, by mail to U.S. Army Environmental Command, ATTN: Public Affairs, 2455 Reynolds Rd., Mail Stop 112, JBSA-Fort Sam Houston, Texas 78234-7588, or by phone at 443-243-0313, 210-792-6683, or toll-free at 855-846-3940.

SUPPLEMENTARY INFORMATION: The M-SHORAD system and associated battalion addressed in this PEA is a key component of Air and Missile Defense modernization. Maneuvering formations require air defense capabilities to counter air threats. The M-SHORAD capability and the associated air defense artillery battalions will improve air defenses available to the maneuver commander.

The primary warfighting component of the M-SHORAD battalion will be the IM-SHORAD capability provided by about 40 Stryker vehicles modified to the M-SHORAD configuration. The Proposed Action would assign approximately 550 soldiers, 310 tactical vehicles, and associated equipment to as many as three of the six assessed installations. Installations assessed are Fort Bliss, Fort Hood, Fort Riley, Fort Stewart, Fort Carson, as well as a smaller training organization at Fort Sill. There is a potential to require construction of office and maintenance space, barracks, and training ranges over a period of approximately 5 years, depending on facilities already available at the installations.

The PEA analyzes the potential environmental and socioeconomic impacts associated with the Proposed Action, including direct, indirect, and cumulative effects. The analysis includes minimization measures, standard operating procedures, and best management practices routinely employed by the installations to reduce potential adverse effects of the Proposed Action.

The Army identified one reasonable Action Alternative that would meet the purpose of and need for the Proposed Action: Field M-SHORAD units to installations at which the unit can be accommodated within planned or existing temporary or permanent infrastructure and training can be accomplished through live fire or approved simulations. Training requirements can also be met through flexible scheduling as facilitated by the Army's Sustainable Readiness Model or the Regionally Aligned Readiness and Modernization Model. Within this alternative, the PEA analyzes six different installations.

The Army also carried forward the No Action Alternative for detailed analysis in the PEA. While the No Action Alternative would not satisfy the purpose of or need for the Proposed Action, this Alternative was retained to provide a comparative baseline against which to analyze the effects of the Action Alternative as required under the Council on Environmental Quality's NEPA Regulations.

Resources analyzed in the PEA include air quality, airspace, biological resources, cultural resources, soils, land use and compatibility, socioeconomics, traffic and transportation, facilities, and water resources.

Based on the analysis presented in the PEA, effects of the Proposed Action are expected to be negligible, minor, or less than significant.

The Action Alternative may adversely impact wetlands and/or 100-year floodplains at Fort Riley and Fort Stewart. Accordingly, the Army has also prepared a Draft FONPA to comply with Executive Order (E.O.) 11988, Floodplain Management, and E.O. 11990, Protection of Wetlands. As described in the PEA, environmental protection measures (e.g., buffers from heavy maneuver training and construction best management practices) and regulatory compliance measures (e.g., permitting under Sections 401 and 404 of the Clean Water Act) would be implemented to minimize adverse impacts on these resources.

Government agencies, Native American Tribes, and the public are invited to review and comment on the PEA. The public comment period begins with the publication of this Notice of Availability in the Federal Register and will last for 30 days. The PEA, Draft FONSI, and Draft FONPA are available to the public on the U.S. Army Environmental Command web page at https://aec.army.mil/index.php?cID=352. If you cannot access the PEA online, please submit a request to the U.S. Army Environmental Command at usarmy.jbsa.aec.mbx@mail.mil or via mail at U.S. Army Environmental Command, ATTN: Public Affairs, 2455 Reynolds Rd., Mail Stop 112, JBSA-Fort Sam Houston, TX 78234-7588.

Following the public comment period, the Army will consider all public comments and prepare a Final FONSI or Notice of Intent to prepare an Environmental Impact Statement, and a Final FONPA applying to Fort Riley and Fort Stewart only, prior to making any decision regarding the Proposed Action. Comments must be received or postmarked by June 18, 2021 to be considered during decision-making process.

James W. Satterwhite Jr.,
Army Federal Register Liaison Officer.

[FR Doc. 2021-10502 Filed 5-18-21; 8:45 am]

BILLING CODE 5061-AP-P